DEPARTMENT OF TRANSPORTATION

Coast Guard

46 CFR Parts 110 and 111

[USCG-2001-8602]

Marine Shipboard Electrical Cable Standards: Incorporation of IEEE Standard 45, 1998 Edition

AGENCY: Coast Guard, DOT.

ACTION: Request for comments.

SUMMARY: The Coast Guard is considering requests to allow merchant vessels to use shipboard cable constructed to meet the requirements in Clause 8 (Cable Construction), Clause 9 (Cable Application), and Clause 10 (Cable Installation) of the Institute of Electrical and Electronics Engineers (IEEE) Standard 45, Recommended Practice for Electrical Installations on Shipboard-1998 edition. The 1998 edition changes the testing requirements for marine shipboard electrical cable from those in the 1983 edition. It also requires third party verification. The Coast Guard requests comments concerning which edition (the 1983 edition, the 1998 edition, or both) should be incorporated by reference.

DATES: Comments and related material must reach the Docket Management Facility on or before March 9, 2001.

ADDRESSES: To make sure your comments and related material are not entered more than once in the docket, please submit them by only one of the following means:

(1) By mail to the Docket Management Facility [USCG-2001-8602], U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this notice, call Dolores Mercier, Project Manager, Office of Design and Engineering Standards (G-MSE), Coast Guard, telephone 202-267-0658, fax 202-267-4816, e-mail dmercier@comdt.uscg.mil. For questions on viewing or submitting material to the docket, call Dorothy Beard, Chief, Dockets, Department of Transportation, phone 202-366-9329.

SUPPLEMENTARY INFORMATION:

Request for Comments

If you submit written comments, please include your name and address, and identify the docket number for this rulemaking [USCG-2001-8602] and the reason for each comment. You may submit your comments and material by mail, delivery, fax, or electronic means to the Docket Management Facility at the address under ADDRESSES; but please submit your comments and material by only one means. Please submit all comments and material in an unbound format, no larger than 8½ by 11 inches, suitable for copying and electronic filing to the Facility at the address under ADDRESSES. If you want acknowledgement of receipt of your comments, please enclose a stamped, self-addressed postcard or envelope. The Coast Guard will consider all comments and materials received during the comment period.

Background and Purpose

On February 8, 2000, a notice of proposed rulemaking was published in the Federal Register (65 FR 6111). In this rulemaking the Coast Guard proposed to amend its electrical engineering regulations for merchant vessels by adding alternative cable standards that were equivalent to the existing standards. IEEE Std 45, 1998 edition was not included in that rulemaking as an alternative standard. In the comment process of that notice we received numerous requests from industry to recognize marine shipboard electrical cable that is constructed to IEEE Std. 45-1998 edition. We presently recognize cable constructed to the IEEE Std. 45-1983 edition. The 1998 edition of IEEE Std. 45 changes the testing requirements for marine shipboard electrical cable, and it also requires third party verification. We recognize that there are types of cable found in IEEE Std. 45-1998, that are not found in IEEE Std. 45-1983.

The Coast Guard seeks comments regarding the following three proposals:

1. The Coast Guard should not recognize IEEE Std. 45-1998 edition.

2. The Coast Guard should recognize IEEE Std. 45-1998 edition and should remove the reference to the 1983 edition.

3. The Coast Guard should recognize IEEE Std. 45-1998 edition and should leave the reference to the 1983 edition.

The Coast Guard encourages the public to submit comments on the above three proposals.

Dated: December 27, 2000.
Joseph J. Angelo,
Director of Standards.

[FR Doc. 01-434 Filed 1-5-01; 8:45 am]

BILLING CODE 4910-15-U